ENVIRONMENTAL PROTECTION AGENCY

[EPA-HQ-OAR-2021-0085; FRL-9509-01-OMS]

Information Collection Request Submitted to OMB for Review and Approval; Comment Request; NSPS for New Residential Wood Heaters (Renewal)

AGENCY: Environmental Protection Agency (EPA).

ACTION: Notice.

SUMMARY: The Environmental Protection Agency has submitted an information collection request (ICR), NSPS for New Residential Wood Heaters (EPA ICR Number 1176.14, OMB Control Number 2060-0161), to the Office of Management and Budget (OMB) for review and approval in accordance with the Paperwork Reduction Act. This is a proposed extension of the ICR, which is currently approved through March 31, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 28, 2022.

ADDRESSES: Submit your comments, referencing Docket ID Number EPA-HQ-OAR-2021-0085, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Manufacturers of wood heaters and testing laboratories and third-party certifiers are required to comply with reporting and record keeping requirements for the General Provisions (40 CFR part 60, subpart A), as well as for the applicable specific standards in 40 CFR part 60 Subpart AAA. This includes submitting initial notifications, performance tests and periodic reports and results, and maintaining records. These reports are used by EPA to determine compliance with these standards.

Form Numbers: None.

Respondents/affected entities: Manufacturers of wood heating appliances, testing laboratories, third-party certifiers.

Respondent's obligation to respond: Mandatory (40 CFR part 60, subpart AAA).

Estimated number of respondents: 62 (total).

Frequency of response: Annually, biennially, every five years.

Total estimated burden: 4,380 hours (per year). Burden is defined at 5 CFR 1320.3(b).

Total estimated cost: $1,180,000 (per year), which includes $657,000 in annualized capital startup and/or operation & maintenance costs.

Changes in the Estimates: There is an increase in burden from the most-recently approved ICR as currently identified in the OMB Inventory of Approved Burdens. This is due to several considerations. Among other considerations, the number of manufacturers and the number of certified woodstove model lines have both increased since the previous ICR. These two factors have contributed to an increase in respondents, labor burden, and in the number of responses.

The growth rate for manufacturers entering this industry has slowed since the previous ICR, and no new respondents are expected during the three-year period of this ICR. The number of existing testing laboratories and third-party certifiers has remained constant since the previous ICR. The capital/startup costs have decreased since the previous ICR, which occurred during a period when manufacturers were introducing approximately 30 new model lines each year to comply with Step 2 requirements. In this ICR, we expect the introduction of new model lines to be 15 per year. This results in a decrease in capital/startup costs for performance testing and new model certification. There is an increase in operation and maintenance (O&M) costs reflecting the increase in model lines that are tested as part of the manufacturers Quality Assurance Program. Also, in this ICR, we have reorganized Table 1, Table 2, and the Total Annual Responses tables to separate requirements for new model lines from existing model lines. This ICR also reorganizes the Capital/Startup vs. Operation and Maintenance (O&M) Costs table to distinguish between initial costs for new models and operation and maintenance costs for existing models. Additionally, this ICR adjusts the labor assumptions for the `burden' associated with manufacturer review of QA annual audit reports provided by third-party certifiers to reflect that audits are anticipated to be performed for all of a single manufacturer's model lines in one visit and the results of the audits would be presented in a single batch or report for manufacturer review. Similarly, this ICR assumes that third-party certifiers will prepare the QA annual audit report on a manufacturer, rather than model line, basis. Finally, this ICR also adjusts the labor assumptions associated with recordkeeping requirements for manufacturers for test documentation and for retention of sealed stoves to reflect that the number of model lines per manufacturer and the frequency of the activity. These adjustments minimally reduce burden for these activities, however, there remains an overall increase in burden.

Courtney Kerwin,
Director, Regulatory Support Division.

[FR Doc. 2022-01637 Filed 1-26-22; 8:45 am]

BILLING CODE 6560-50-P